DEPARTMENT OF AGRICULTURE

Food and Nutrition Service

7 CFR Parts 271 and 273

[FNS-2019-0008]

RIN 0584-AE68

Employment and Training Opportunities in the Supplemental Nutrition Assistance Program; Approval of Information Collection Request

AGENCY: Food and Nutrition Service, USDA.

ACTION: Final rule; notification of approval of Information Collection Request (ICR).

SUMMARY: The final rule entitled Employment and Training Opportunities in the Supplemental Nutrition Assistance Program was published on January 5, 2021. The Office of Management and Budget cleared the associated information collection requirements (ICR) on March 16, 2021. This document announces approval of the ICR.

DATES: The ICR associated with the final rule published in the Federal Register on January 5, 2021, at 86 FR 358, was approved by OMB on March 16, 2021, under OMB Control Number 0584-0653; Expiration Date: March 31, 2024.

FOR FURTHER INFORMATION CONTACT: Moira Johnston, Director, Office of Employment and Training, Supplemental Nutrition Assistance Program, Food and Nutrition Service, USDA, 1320 Braddock Place, Alexandria, Virginia 22314, or ETORule@usda.gov.

SUPPLEMENTARY INFORMATION: The final approved ICR for the final rule entitled Employment and Training Opportunities in the Supplemental Nutrition Assistance Program published on January 5, 2021 (RIN 0584-AE68) has five parts. One part required a revision to an existing information collection (SNAP Employment and Training Program activity Report; OMB Control Number: 0584-0594; Expiration Date: July 31, 2023) in order to add three new data elements to the FNS-583. The other four parts of the information collection are new and do not have existing burden collections. These new information collections pertain to providing all E&T participants with case management services, requiring State agencies to notify individuals with a provider determination, requiring State agencies to notify ABAWDs of the ABAWD work requirement, and to require State agencies to advise certain SNAP households of available employment and training services at the time of recertification. FNS sought a new OMB control number for the information collection associated with this rulemaking. These changes are required by changes made by section 4005 of The Agriculture Improvement Act of 2018 (Pub. L. 115-334) (the Act) to the Supplemental Nutrition Assistance Program (SNAP) and are allowable under the authority granted to the Department to administer SNAP in section 4(c) of the Food and Nutrition Act of 2008.

Cynthia Long,
Acting Administrator, Food and Nutrition Service.

[FR Doc. 2021-06154 Filed 4-8-21; 8:45 am]

BILLING CODE 3410-30-P